DEPARTMENT OF THE INTERIOR

Bureau of Land Management

[ID-090-1610-DG]

Environmental Statements; Notice of Intent

AGENCY: Bureau of Land Management, Department of the Interior.

ACTION: Notice of Intent to prepare (1) a Resource Management Plan (RMP) and Environmental Impact Statement (EIS) for the Snake River Birds of Prey National Conservation Area (NCA) and (2) a RMP and EIS for the Bruneau planning area of the Owyhee Field Office in southwestern Idaho.

SUMMARY: Pursuant to section 202 of the Federal Land Policy and Management Act of 1976 (FLPMA) and section 102 (2)(C) of the National Environmental Policy Act of 1969 (NEPA), the Bureau of Land Management (BLM), Lower Snake River District will prepare a RMP and EIS for the Snake River Birds of Prey NCA and a separate RMP and EIS for the Bruneau planning area in southwestern Idaho. These land use plans will guide resource management in these areas in the foreseeable future. These RMPs will be prepared under guidance provided through 43 CFR part 1600 (BLM Planning Regulations).

DATES: Public meetings pursuant to 43 CFR 1610.2 (BLM Planning Regulations) and 40 CFR 1501.7 (NEPA Regulations) to help identify the range of issues to be addressed in each RMP and the scope of each EIS will be announced through the local media and direct mailings at a later date once specific dates and locations for public participation are determined. Throughout the planning process, the public will be given opportunities to participate through workshops and open house meetings. These workshops will provide the public an opportunity to work with BLM in identifying the full range of issues to be addressed in the RMPs/EISs and developing the alternatives to be analyzed in the EISs.

ADDRESSES: Comments should be sent to: Bureau of Land Management, SRBOPNCA-RMP, 3948 Development Avenue, Boise, Idaho 83705, for the Snake River Birds of Prey NCA RMP, and Owyhee Field Office, 3948 Development Avenue, Boise Idaho 83705, for the Bruneau RMP. Comments, including names and street addresses of respondents, will be available for public review at the above address during regular business hours 7:45 a.m. to 4:15 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: John Sullivan, NCA Manager, 3948 Development Avenue, Boise, Idaho 83705 for the Snake River Birds of Prey NCA RMP; and Jenna Whitlock, Field Manager, Owyhee Field Office, 3948 Development Ave., Boise, Idaho 83705 for the Bruneau RMP; phone for either manager (208) 384-3300. Existing documents concerning these planning areas can be seen at the above addresses.

SUPPLEMENTARY INFORMATION: The planning process for these two RMPs will utilize an open collaborative approach allowing the public, Tribes, State and Federal agencies, local elected officials, and BLM subject matter specialists to fully develop and analyze the alternatives for management of the public lands. To facilitate public comment, promote efficiency, and avoid confusion between the two planning efforts, it is anticipated that joint scoping meetings will be conducted. Beyond the scoping process, each planning effort will develop its own public involvement process to be responsive to the issues and concerns unique to the planning effort. The plans are expected to be completed in 2004.

Snake River Birds of Prey NCA RMP

The NCA encompasses 485,000 acres of public land along 81 miles of the Snake River. It is located in Ada, Canyon, Elmore, and Owyhee Counties and is within a 30 minute drive of Boise in southwestern Idaho. The NCA was established on August 4, 1993 by Public Law 103-64 for the conservation, protection and enhancement of raptor populations and habitats and the natural and environmental resources and values associated with the area. The current NCA management plan is an activity level plan that conforms with, and is used in conjunction with five land use plans. The NCA RMP will replace management decisions made in the existing five land use plans.

In order to address issues and meet Bureau requirements for determining appropriate public land uses, decisions may be made on the following: air resources, soil resources, water resources, vegetation (including invasive species and noxious weeds), riparian areas, wildlife habitat, fishery habitat, special status species (including threatened and endangered species), range management, fire management, lands (including tenure adjustments, rights-of-way, and NCA boundary adjustments), military training, mineral materials, recreation, visual resources, cultural resources, geological and paleontological resources, areas of critical environmental concern, and hazardous materials.

The preliminary issues have been identified, based on the NCA legislative mandate, and staff knowledge. These preliminary issues will be expanded during public scoping and refined throughout the planning process. The following issues, at a minimum, will be addressed in the RMP: National Guard military training compatibility with NCA purposes; management and protection of raptors and scientific research on their decline; habitat restoration, including needs as a result of wildfire and other disturbances; fire and fuels management strategies to protect at risk communities and habitats, especially shrub sites; rangeland health assessments and livestock grazing compatibility determinations as required by the enabling legislation; special status species management (including threatened and endangered species); public access and transportation within the NCA that balances public access and resource protection; visitor use and environmental education; protection and management of significant cultural sites; land tenure adjustments and urban interface considerations; and possible withdrawal of an unexploded ordnance area. All issues will be considered in the context of compatibility with NCA purposes as described in the enabling legislation, the Snake River Birds of Prey Act of 1996 (Public Law 103-64). Disciplines corresponding to these issue areas will be represented and used during the planning process.

Bruneau Planning Area

The Bruneau planning area encompasses approximately 1.4 million acres of public land administered by the BLM Owyhee Field Office in southwestern Idaho. This area is currently managed in compliance with the Bruneau Management Framework Plan (MFP) approved in 1983. Reorganization of the Lower Snake River District resulted in incorporation of the Bruneau planning area into the Owyhee Field Office. In December of 1999, the Owyhee RMP was approved on 1.3 million acres. When completed, the Bruneau RMP will be used in conjunction with the Owyhee RMP to manage approximately 2.7 million acres administered by the Owyhee Field Office.

In order to address issues and meet BLM planning requirements for determining public land uses, decisions may be made for air, soil, and water resources; vegetation (including noxious weeds); riparian areas; forestry management (including juniper woodlands); wildlife and fishery habitat; special status species (including threatened, endangered, candidate, and BLM sensitive species); range management; fire and fuels management; lands (including tenure adjustments and rights-of-way); locatable, leasable, and salable minerals; recreation (including wild and scenic rivers); wilderness; visual resources; cultural resources; hazardous materials; and areas of critical environmental concern.

The anticipated issues identified are preliminary and are based on staff knowledge. The issues will be expanded during public scoping and refined throughout the planning process. As a minimum the following issues will be addressed in the RMP: range management including compliance with Idaho standards for rangeland health and guidelines; public access and transportation to balance access and resource protection; recreation; identification of conservation measures for special status species; wilderness study area management; management of river segments eligible for the wild and scenic river system; protection and management of cultural resources; management of riparian and wetland habitats; fire and fuel management, including protection of low elevation shrub communities from unnatural wildfire; and consideration of local community needs, including consideration of the socio-economic effects of changes in public land management. Disciplines corresponding to the issue areas indicated will be represented and used during the planning process.

Dated: July 16, 2001.
Katherine Kitchell,
Lower Snake River District Manager.

[FR Doc. 01-19674 Filed 8-6-01; 8:45 am]

BILLING CODE 4310-GG-P